NUCLEAR REGULATORY COMMISSION

Sunshine Act Meeting

AGENCY HOLDING THE MEETING: Nuclear Regulatory Commission.

DATES: Weeks of March 6, 13, 20, 27, April 3 and 10, 2000.

PLACE: Commissioners' Conference Room, 11555 Rockville Pike, Rockville, Maryland.

STATUS: Public and Closed.

MATTERS TO BE CONSIDERED:

Week of March 6

Tuesday, March 7

12:55 p.m.

Affirmation Session (Public Meeting) (if needed).

1:00 p.m.

Briefing on Improvements in the Reactor Oversight Process (Public Meeting) (Contact: Bill Dean, 301-415-1257)

Week of March 13—Tentative

There are no meetings scheduled for the Week of March 13.

Week of March 20—Tentative

Wednesday, March 22

9:25 a.m.

Affirmation Session (Public Meeting) (if needed)

Friday, March 24

9:30 a.m.

Briefing on Evaluation of the Requirement for Licensee to Update Their Inservice Inspection and Inservice Testing Program Every 120 Months (Public Meeting) (Contact: Tom Scarbrough, 301-415-2794)

Week of March 27—Tentative

Thursday, March 30

8:55 a.m.

Affirmation/Discussion and Vote (Public Meeting) (If needed)

9:00 a.m.

Briefing on EEO Program (Public Meeting) (Contact: Irene Little, 301-415-7380)

Friday, March 31

9:25 a.m.

Affirmation Session (Public Meeting) (if needed)

9:30 a.m.

Briefing on Risk-informed Regulation Implementation Plan (Public Meeting) (Contact: Tom King, 301-415-5790)

Week of April 3—Tentative

There are no meetings scheduled for the Week of April 3.

Week of April 10—Tentative

There are no meetings scheduled for the Week of April 10.

*The schedule for Commission meetings is subject to change on short notice. To verify the status of meetings call (recording)—(301) 415-1292.

CONTACT PERSON FOR MORE INFORMATION: Bill Hill (301) 415-1661.

ADDITIONAL INFORMATION: By a vote of 5-0 on March 1, the Commission determined pursuant to U.S.C. 552b(e) and § 9.107(a) of the Commission's rules that “Discussion of Intragovernmental Issues” (Closed-Ex. 9) be held on March 1, and on less than one week's notice to the public.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: March 3, 2000.
William M. Hill, Jr.,
SECY Tracking Officer, Office of the Secretary.

[FR Doc. 00-5616 Filed 3-3-00; 8:45 am]

BILLING CODE 7590-01-M